DEPARTMENT OF COMMERCE

International Trade Administration

(A-570-846)

Brake Rotors From the People's Republic of China: Final Results of the Tenth New Shipper Review

AGENCY: Import Administration, International Trade Administration, Department of Commerce.

ACTION: Notice of final results of the tenth new shipper review.

SUMMARY: On June 1, 2004, the Department of Commerce published the preliminary results of the tenth new shipper review of the antidumping duty order on brake rotors from the People's Republic of China (PRC). See Brake Rotors from the People's Republic of China: Preliminary Results of the Tenth New Shipper Review, 69 FR 30875 (June 1, 2004) (Preliminary Results). This review examined one exporter Shenyang Yinghao Machinery Co., Ltd (Shenyang Yinghao). The period of review is April 1, 2003, through September 30, 2003 (POR). We gave interested parties the opportunity to comment on our preliminary results. However, no interested party filed such comments.

Since the preliminary results, we have made certain changes in the margin calculation for the respondent in this review (see section entitled “Changes Since the Preliminary Results” below for details). However, these changes did not impact the overall weighted-average margin calculated in the preliminary results. The final weighted-average dumping margin for the reviewed firm is listed below in the section entitled “Final Results of Review.”

EFFECTIVE DATE: August 25, 2004.

FOR FURTHER INFORMATION CONTACT: Terre Keaton or Brian Smith, Import Administration, International Trade Administration, U.S. Department of Commerce, 14th Street and Constitution Avenue, NW., Washington, DC 20230; telephone: (202) 482-1280, or (202) 482-1766, respectively.

SUPPLEMENTARY INFORMATION:

Background

On June 1, 2004, the Department published in the Federal Register the Preliminary Results (see 69 FR 30875). On June 8, 2004, Shenyang Yinghao, the respondent, submitted a copy of its 2003 audited financial statement.¹ Neither the respondent nor the petitioner filed a case brief in this review.²

¹ Department officials at verification requested that the audited financial statement be placed on the record of this review at the time of its completion (see the April 14, 2004, verification report).

² The petitioner is the Coalition for the Preservation of American Brake Drum and Rotor Aftermarket Manufactures.

Scope of Order

The products covered by this order are brake rotors made of gray cast iron, whether finished, semifinished, or unfinished, ranging in diameter from 8 to 16 inches (20.32 to 40.64 centimeters) and in weight from 8 to 45 pounds (3.63 to 20.41 kilograms). The size parameters (weight and dimension) of the brake rotors limit their use to the following types of motor vehicles: automobiles, all-terrain vehicles, vans and recreational vehicles under “one ton and a half,” and light trucks designated as “one ton and a half.”

Finished brake rotors are those that are ready for sale and installation without any further operations. Semi-finished rotors are those on which the surface is not entirely smooth, and have undergone some drilling. Unfinished rotors are those which have undergone some grinding or turning.

These brake rotors are for motor vehicles, and do not contain in the casting a logo of an original equipment manufacturer (OEM) which produces vehicles sold in the United States (e.g., General Motors, Ford, Chrysler, Honda, Toyota, Volvo). Brake rotors covered in this order are not certified by OEM producers of vehicles sold in the United States. The scope also includes composite brake rotors that are made of gray cast iron, which contain a steel plate, but otherwise meet the above criteria. Excluded from the scope of this order are brake rotors made of gray cast iron, whether finished, semifinished, or unfinished, with a diameter less than 8 inches or greater than 16 inches (less than 20.32 centimeters or greater than 40.64 centimeters) and a weight less than 8 pounds or greater than 45 pounds (less than 3.63 kilograms or greater than 20.41 kilograms).

Brake rotors are currently classifiable under subheading 8708.39.5010 of the Harmonized Tariff Schedule of the United States (HTSUS). Although the HTSUS subheading is provided for convenience and customs purposes, our written description of the scope of this order is dispositive.

Changes Since the Preliminary Results

For the final results, we made adjustments to our calculation of the surrogate ratios for factory overhead, selling, general and administrative expenses (SG&A), and profit for Kalyani Brakes Limited (Kalyani). Specifically, we offset Kalyani's cost of manufacturing (COM) by its sales of scrap, which impacted the surrogate factory overhead, SG&A and profit calculations (see August 18, 2004, Final Results Valuation Memorandum). Furthermore, we note that in the Preliminary Results Valuation Memorandum (PRVM), we misstated our reasons for removing certain line items from Kalyani's SG&A surrogate calculation. Specifically, in the PRVM we incorrectly stated that we did not make a deduction for scrap sales revenue and cash discounts in the SG&A calculation because the respondent in this review did not have sales of scrap nor did it have cash discounts. However, as noted in Brake Rotors from the People's Republic of China: Final Results and Partial Rescission of the Sixth Antidumping Duty Administrative Review and Final Results of the Ninth New Shipper Review, 69 FR 42039 (July 13, 2004) and its accompanying Issues and Decision Memorandum at Comment 1, it is not the Department's practice to tailor surrogate financial ratios to match the circumstances of the PRC producers; however, it is the Department's practice to offset sales of scrap from the COM and to treat cash discounts as a reduction to sales revenue rather than to treat these items as selling expenses.

Final Results of Review

We determine that the following weighted-average margin percentage exists for the following company during the period April 1, 2003, through September 30, 2003:

Manufacturer/producer/exporter | Margin Percent
Shenyang Yinghao Machinery Co., Ltd | 0.00

Assessment Rates

The Department shall determine, and U.S. Customs and Border Protection (CBP) shall assess, antidumping duties on all appropriate entries. Pursuant to 19 CFR 351.212(b)(1), we calculated importer- or customer-specific ad valorem duty assessment rates based on the ratio of the total amount of the dumping margins calculated for the examined sales to the total entered value of those same sales. In accordance with 19 CFR 351.106(c)(2), we will instruct CBP to liquidate without regard to antidumping duties all entries of subject merchandise during the POR for which the importer-specific assessment rate is zero or de minimis (i.e., less than 0.50 percent). The Department will issue appropriate assessment instructions directly to CBP within 15 days of publication of the final results of this review.

Cash Deposit Requirements

Bonding will no longer be permitted to fulfill security requirements for shipments of brake rotors from the PRC that are manufactured and exported by Shenyang Yinghao Machinery Co., Ltd. (Shenyang Yinghao) and entered, or withdrawn from warehouse, for consumption on or after the publication date of the final results of this new shipper review.

The following cash deposit requirements will be effective upon publication of the final results of this review for all shipments of subject merchandise from Shenyang Yinghao entered, or withdrawn from warehouse, for consumption on or after the publication date of this final results, as provided by section 751(a)(2)(B) and (C) of the Act: (1) the cash deposit rate for for subject merchandise manufactured and exported by Shenyang Yinghao will be zero; (2) the cash deposit rate for subject merchandise exported by Shenyang Yinghao but not manufactured by it will continue to be the PRC-wide rate (i.e., 43.32 percent).

These deposit requirements shall remain in effect until publication of the final results of the next administrative review.

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

This notice also serves as the only reminder to parties subject to administrative protective orders (APO) of their responsibility concerning the return or destruction of proprietary information disclosed under APO in accordance with 19 CFR 351.305. Timely written notification of the return/destruction of APO materials or conversion to judicial protective order is hereby requested. Failure to comply with the regulations and terms of an APO is a violation which is subject to sanction.

We are issuing and publishing this determination and notice in accordance with sections 751(a)(2)(B) and 777(i) of the Act and 19 CFR 351.214.

Dated: August 18, 2004.
James J. Jochum,
Assistant Secretary for Import Administration.

[FR Doc. E4-1924 Filed 8-24-04; 8:45 am]

BILLING CODE 3510-DS-S